DEPARTMENT OF DEFENSE

Office of the Secretary

[Transmittal No. 22-02]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-02 with attached Policy Justification and Sensitivity of Technology.

Dated: May 25, 2023.
Aaron T. Siegel,
Alternate OSD Federal Register Liaison Officer, Department of Defense.

BILLING CODE 5001-06-P

BILLING CODE 5001-06-C

Transmittal No. 22-02

Notice of Proposed Issuance of Letter of Offer Pursuant to Section 36(b)(1) of the Arms Export Control Act, as amended

(i) Prospective Purchaser: Government of Lithuania

(ii) Total Estimated Value:

Major Defense Equipment * | $109.30 million
Other | $ 15.70 million
TOTAL | $125.00 million

Funding Source: National Funds

(iii) Description and Quantity or Quantities of Articles or Services Under Consideration for Purchase: Foreign Military Sales (FMS) case LH-B-UDK, was below congressional notification threshold at $28.23 million ($23.11 million in MDE) and included one hundred eleven (111) Javelin FGM-148F missiles and ten (10) Javelin Command Launch Units (CLUs). The Government of Lithuania has requested the case be amended to include an additional two hundred thirty (230) Javelin FGM-148F missiles and twenty (20) Javelin CLUs. This amendment will push the current case above the MDE notification threshold and thus requires notification of the entire case.

Major Defense Equipment (MDE):

Three hundred forty-one (341) Javelin FGM-148F Missiles

Thirty (30) Javelin Command Launch Units (CLUs)

Non-MDE:

Also included are battery chargers; Enhanced Producibility Basic Skills Trainer (EPBST); training; publications; support equipment; United States Government technical assistance; and other related elements of logistics and program support.

(iv) Military Department: Army (LH-B-UDK)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: December 21, 2021

* As defined in Section 47(6) of the Arms Export Control Act.

POLICY JUSTIFICATION

Lithuania—Javelin Missiles

The Government of Lithuania has requested to buy an additional two hundred thirty (230) Javelin FGM-148F missiles and twenty (20) Javelin Command Launch Units (CLUs), that will be added to a previously implemented case that was under threshold. The original FMS case, valued at $28.23 million, included one hundred eleven (111) Javelin FGM-148F missiles and ten (10) Javelin CLUs. Therefore, this notification is for a total of three hundred forty-one (341) Javelin FGM-148F missiles and thirty (30) Javelin CLUs. Also included are battery chargers; Enhanced Producibility Basic Skills Trainer (EPBST); training; publications; support equipment; United States Government technical assistance; and other related elements of logistics and program support. The total estimated cost is $125 million.

This proposed sale will support the foreign policy and national security of the United States by helping to improve the security of a NATO ally that is an important force for ensuring peace and stability in Europe.

The proposed sale will help Lithuania build its long-term defense capacity to defend its sovereignty and territorial integrity in order to meet its national defense requirements. It is vital to the U.S. national interest to assist Lithuania in developing and maintaining a strong and ready self-defense capability. Lithuania will have no difficulty absorbing this equipment into its armed forces.

The proposed sale of this equipment and support will not alter the basic military balance in the region.

The principal contractor will be Raytheon/Lockheed Martin Corporation Joint Venture, Orlando, FL, and Tucson, AZ. There are no known offset agreements proposed in connection with this potential sale.

Implementation of this sale will not require the assignment of any U.S. Government or contractor representatives to Lithuania.

There will be no adverse impact on U.S. defense readiness as a result of this proposed sale.

Transmittal No. 22-02

Notice of Proposed Issuance of Letter of Offer Pursuant to Section 36(b)(1) of the Arms Export Control Act

Annex

Item No. vii

(vii) Sensitivity of Technology:

1. The Javelin Weapon System is a medium-range, man portable, shoulder-launched, fire and forget, anti-tank system for infantry, scouts, and combat engineers. It may also be mounted on a variety of platforms including vehicles, aircraft, and watercraft. The system weighs 49.5 points and has a maximum range in excess of 2,500 meters. The system is highly lethal against tanks and other systems with conventional and reactive armors. The system possesses a secondary capability against bunkers.

2. Javelin's key technical feature is the use of fire-and-forget technology which allows the gunner to fire and immediately relocate or take cover. Additional special features are the top attack and/or direct fire modes, an advanced tandem warhead and imaging infrared seeker, target lock-on before launch, and soft launch from enclosures or covered fighting positions. The Javelin missile also has a minimum smoke motor thus decreasing its detection on the battlefield.

3. The Javelin Weapon System is comprised of two major tactical components, which are a reusable Command Launch Unit (CLU) and a round contained in a disposable launch tube assembly. The CLU incorporates an integrated day-night sight that provides a target engagement capability in adverse weather and countermeasure environments. The CLU may also be used in a stand-alone mode for battlefield surveillance and target detection. The CLU's thermal sight is a second generation Forward Looking Infrared (FLIR) sensor. To facilitate initial loading and subsequent updating of software, all on-board missile software is uploaded via the CLU after mating and prior to launch.

4. The missile is autonomously guided to the target using an imaging infrared seeker and adaptive correlation tracking algorithms. This allows the gunner to take cover or reload and engage another target after firing a missile. The missile has an advanced tandem warhead and can be used in either the top attack or direct fire modes (for target undercover). An onboard flight computer guides the missile to the selected target.

5. The highest level of classification of defense articles, components, and services included in this potential sale is SECRET.

6. If a technologically advanced adversary were to obtain knowledge of the hardware and software elements, the information could be used to develop countermeasures or equivalent systems which might reduce system effectiveness or be used in the development of a system with similar or advanced capabilities.

7. A determination has been made that the Government of Lithuania can provide substantially the same degree of protection for the sensitive technology being released as the U.S. Government. This sale is necessary in furtherance of the U.S. foreign policy and national security objectives outlined in the Policy Justification.

8. All defense articles and services listed in this transmittal are authorized for release and export to the Government of Lithuania.

[FR Doc. 2023-11582 Filed 5-31-23; 8:45 am]

BILLING CODE 5001-06-P